DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2007, there were four applications approved. This notice also includes information on two applications, approved in October 2007, inadvertently left off the October 2007 notice. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Charlotte, North Carolina.

Application Number: 07-02-C-00-CLT.

Application Type: Impose and use a PFC.

PFC Level: $3.00.

Total PFC Revenue Approved in This Decision: $144,557,137.

Earliest Charge Effective Date: February 1, 2018.

Estimated Charge Expiration Date: December 1, 2020.

Class of Air Carriers Not Required To Collect PFCs:

Air taxi/commercial operators filing FAA Form 1800-31.

Determination: Approved. Based on information contained in the public agency's application, the FAA has determined that the approved class accounts for less than 1 percent of the total annual enplanements at Charlotte/Douglas International Airport.

Brief Description of Projects Approved for Collection and Use:

Construct taxiway V.

New aircraft rescue and firefighting vehicle.

Aircraft deicing facility.

Terminal complex signage.

Baggage handling room concourse E.

Concourse restroom reconstruction.

Master plan land acquisition.

Application development cost.

Brief Description of Projects Partially Approved for Collection and Use:

West Boulevard relocation—west.

Determination: The FAA has determined that only the portion of this project connecting the relocated Wallace Neel Road to the existing road system is eligible at this time. The remaining portions of the project have not been adequately justified since they do not appear necessary for the construction of the third parallel runway.

Concourse E improvements.

Determination: The FAA determined that the costs associated with the tenant finishes are not PFC eligible.

Decision Date: October 25, 2007.

FOR FURTHER INFORMATION CONTACT: John Marshall, Atlanta Airports District Office, (404) 305-7153.

Public Agency: Telluride Regional Airport Authority, Telluride, Colorado.

Application Number: 08-06-C-00-TEX.

Application Type: Impose and use a PFC.

PFC Level: $4.50.

Total PFC Revenue Approved in This Decision: $6,000,000.

Earliest Charge Expiration Date: January 1, 2008.

Estimated Charge Expiration Date: January 1, 2019.

Class of Air Carriers Not Required To Collect PFC's:

Part 135 charter operators.

Determination: Approved. Based on information contained in the public agency's application, the FAA has determined that the approved class accounts for less than 1 percent of the total annual enplanements at Telluride Regional Airport.

Brief Description of Project Approved for Collection and Use:

Runway safety area reconstruction.

Decision Date: October 31, 2007.

FOR FURTHER INFORMATION CONTACT: Chris Schaffer, Denver Airports District Office, (303) 342-1258.

Public Agency: Port of Bellingham, Bellingham, Washington.

Application Type: Impose and use a PFC.

PFC Level: $4.50.

Total PFC Revenue Approved In This Decision: $707,705.

Earliest Charge Effective Date: September 1, 2010.

Estimated Charge Expiration Date: September 1, 2012.

Class of Air Carriers Not Required To Collect PFC'S:

None.

Brief Description of projects approved for Collection and Use:

Terminal expansion—expand gate holding area.

Replace rotating beacon.

Decision Date: November 2, 2007.

FOR FURTHER INFORMATION CONTACT: Trang Tran, Seattle Airports District Office, (425) 227-1662.

Public Agency: Allegheny County Airport Authority, Pittsburgh, Pennsylvania.

Application Number: 07-06-C-00-PIT.

Application Type: Impose and use a PFC.

PFC Level: $4.50.

Total PFC Revenue Approved In This Decision: $40,370,883.

Earliest Charge Effective Date: June 1, 2023.

Estimated Charge Expiration Date: December 1, 2024.

Class of Air Carriers Not Required To Collect PFC's:

Non-scheduled, on demand air carriers.

Determination: Approved. Based on information contained in the public agency's application, the FAA has determined that the approved class accounts for less than 1 percent of the total annual enplanements at Pittsburgh International Airport.

Brief Description of Project Partially Approved for Collection and Use:

Deicing—contaminated storm water treatment facility—phase II final design/construction.

Determination: The FAA determined that a portion of the requested PFC amount had previously been financed by other funding sources.

Decision Date: November 16, 2007.

FOR FURTHER INFORMATION CONTACT: Lori Ledebohm, Harrisburg Airports District Office, (717) 730-2835.

Public Agency: City of Quincy, Illinois.

Application Number: 08-03-C-00-UIN.

Application Type: Impose and use a PFC.

PFC Level: $4.50.

Total PFC Revenue Approved In This Decision: $635,573.

Earliest Charge Effective Date: January 1, 2008.

Estimated Charge Expiration Date: March 1, 2019.

Class of Air Carriers Not Required To Collect PFC'S:

Non-scheduled air service.

Determination: Approved. Based on information contained in the public agency's application, the FAA has determined that the approved class accounts for less than 1 percent of the total annual enplanements at Quincy Regional Airport.

Brief Description of Projects Approved for Collection and use:

Install terminal area security fence.

Rehabilitate taxiway B and portions or taxiways A and D.

Install perimeter fence.

Extend runway 18/36 and runway safety area improvements.

Expansion of aircraft rescue and firefighting apron.

Realign taxiway A and construct 400 feet of taxiway F.

Update airport layout plan.

Reconstruct T-hanger access taxiways and drainage improvements.

Remove and realign taxiway D northwest of runway 18/36. Expand general aviation cargo ramp.

Master plan and terminal study.

Acquire snow removal equipment.

Install waterline.

Rehabilitate airport entrance road.

Acquire wheel loader with ramp blade.

Taxiway F construction.

Decision Date: November 28, 2007.

FOR FURTHER INFORMATION CONTACT: Benjamin Mello, Chicago Airports District Office, (847) 294-7195.

Public Agency: Port of Friday Harbor, Friday Harbor, Washington.

Application Number: 08-02-C-00-FHR.

Application Type: Impose and use a PFC.

PFC Level: $3.00.

Total PFC Revenue Approved in This Decision: $290,272.

Earliest Charge Effective Date: January 1, 2008.

Estimated Charge Expiration Date: July 1, 2016.

Class of Air Carriers Not Required To Collect PFC'S:

Passengers enplaned on a flight to an airport in a community that has a population of less than 10,000 and is not connected by a land highway or vehicular way to the land-connected National Highway System within a State.

Determination: Approved. Based on information contained in the public agency's application, the FAA has determined that the approved class accounts for less than 1 percent of the total annual enplanements at Friday Harbor Airport.

Brief Description of Projects Approved for Collection and Use:

Overlay runway 16/34.

Upgrade perimeter fence.

Update master plan.

Acquire land for airport development.

Acquire land for approach protection.

PFC administration.

Decision Date: November 30, 2007.

FOR FURTHER INFORMATION CONTACT: Trang Tran, Seattle Airports District Office, (425) 227-1662.

Amendments to PFC Approvals
Amendment No. city, state | Amendment approved date | Original approved net PFC revenue | Amended approved net PFC revenue | Original estimated charge exp. date | Amended estimated charge exp. date
98-03-C-03-BPT, Beaumont, TX | 11/01/07 | $1,966,490 | $1,541,860 | 4/01/05 | 4/01/05
01-03-C-02-FOD, Fort Dodge, IA | 11/06/07 | 290,193 | 315,570 | 04/01/08 | 04/01/11
05-04-C-01-GLH, Greenville, MS | 11/07/07 | 125,240 | 135,614 | 06/01/08 | 08/01/08
*98-07-C-01-MHT, Manchester, NH | 11/15/07 | 84,643,000 | 115,844,450 | 10/01/16 | 08/01/15
00-01-C-02-FHR, Friday Harbor, WA | 11/15/07 | 223,812 | 226,805 | 11/01/05 | 01/01/08
02-08-C-02-JAC, Jackson, WY | 11/16/07 | 1,186,158 | 1,189,579 | 04/01/04 | 01/01/04
06-12-C-01-MRY, Monterey, CA | 11/23/07 | 1,811,815 | 2,153,658 | 03/01/09 | 08/01/08
93-01-C-03-DSM, Des Moines, IA | 11/26/07 | 8,775,029 | 8,259,287 | 05/01/98 | 05/01/98
99-04-C-02-DSM, Des Moines, IA | 11/26/07 | 1,850,000 | 1,726,806 | 11/01/04 | 11/01/04
00-05-C-02-DSM, Des Moines, IA | 11/26/07 | 1,150,000 | 971,946 | 03/01/05 | 03/01/05
Notes: The amendment denoted by an asterisk (*) includes a change to the PFC level charged from $3.00 per enplaned passenger to $4.50 per enplaned passenger. For Manchester, NH this change is effective on January 1, 2008.

Issued in Washington, DC on December 20, 2007.
Joe Hebert,
Manager, Financial Analysis and Passenger Facility Charge Branch.

[FR Doc. 07-6241 Filed 12-28-07; 8:45 am]

BILLING CODE 4910-13-M